ENVIRONMENTAL PROTECTION AGENCY

[EPA R9-2023-01; FRL-11282-01-R9]

Notice of Proposed Administrative Settlement Agreement for Removal Action and Payment of Response Costs by Bona Fide Prospective Purchaser at 4350 Temple City Boulevard and 4303, 4313, 4315 and 4319 Rowland Avenue, El Monte, California

AGENCY: Environmental Protection Agency (EPA).

ACTION: Notice of proposed settlement; request for public comment and opportunity for public meeting.

SUMMARY: In accordance with the Comprehensive Environmental Response, Compensation and Liability Act of 1980, as amended (“CERCLA”), and the Resource Conservation and Recovery Act (“RCRA”), notice is hereby given that the United States Department of Justice and the United States Environmental Protection Agency (“EPA”) have entered into a proposed settlement, embodied in an Administrative Settlement Agreement for Removal Action and Payment of Response Costs by Bona Fide Prospective Purchaser (“Settlement Agreement”), with El Monte SS Properties, LLC (“Purchaser”). Under the Settlement Agreement, Purchaser agrees to perform a removal action and pay response costs incurred by the United States at or in connection with the properties located at 4350 Temple City Boulevard and 4303, 4313, 4315 and 4319 Rowland Avenue, El Monte, California (collectively, the “Property”). All five of these properties were originally part of the former Crown City Plating Facility, a source site to the El Monte Operable Unit which is part of the San Gabriel Valley (Area 1) Superfund Site.

DATES: Comments must be received on or before September 18, 2023. A request for a public meeting must be made in writing before September 1, 2023.

ADDRESSES: Please contact Rebekah Reynolds at reynolds.rebekah@epa.gov or (415) 972-3916 to request a copy of the Settlement Agreement or visit https://semspub.epa.gov/work/09/100033590.pdf. Comments on the Settlement Agreement should be submitted in writing to Ms. Reynolds at reynolds.rebekah@epa.gov. Comments should reference the Property, 4350 Temple City Boulevard and 4303, 4313, 4315 and 4319 Rowland Avenue, El Monte, California, and the EPA Docket Number for the Settlement Agreement, EPA R9-2023-01. If for any reason you are not able to submit a comment by email, please contact Ms. Reynolds at (415) 972-3916 to make alternative arrangements for submitting your comment. EPA will post its response to comments at https://cumulis.epa.gov/supercpad/cursites/csitinfo.cfm?id=0901951, EPA's web page for the San Gabriel Valley Superfund Site (Area 1) Superfund Site.

FOR FURTHER INFORMATION CONTACT: Rebekah Reynolds, Assistant Regional Counsel (ORC-3), Office of Regional Counsel, U.S. EPA Region IX, 75 Hawthorne Street, San Francisco, CA 94105; Email: reynolds.rebekah@epa.gov; Phone (415) 972-3916.

SUPPLEMENTARY INFORMATION: Notice of this proposed Settlement Agreement is made in accordance with the Attorney General's authority to compromise and settle claims of the United States, consistent with the Comprehensive Environmental Response, Compensation, and Liability Act of 1980, as amended (“CERCLA”), 42 U.S.C. 9601-9675, and section 7003(d) of RCRA, 42 U.S.C. 6973(d). Under the terms of the Settlement Agreement, Purchaser agrees to perform an Engineering Evaluation/Cost Analysis and a non-time critical removal action to address contamination at the Property, secure financial assurance in the amount of $3,000,000, and pay EPA future response costs for oversight of the cleanup activities. In exchange, the United States will provide Purchaser with a covenant not to sue or to take administrative action against Purchaser pursuant to sections 106 and 107(a) of CERCLA, 42 U.S.C 9606 and 9607(a), and Section 7003 of RCRA, 42 U.S.C. 6973(d). Under section 7003(d) of RCRA, a commenter may request an opportunity for a public meeting in the affected area. EPA will consider all comments received on the Settlement Agreement in accordance with the DATES and ADDRESSES sections of this Notice and may modify or withdraw its consent to the Settlement Agreement if comments received disclose facts or considerations that indicate that the settlement is inappropriate, improper, or inadequate.

Dated: August 10, 2023.
Michael Montgomery,
Director, Superfund and Emergency Management Division, Region 9.

[FR Doc. 2023-17680 Filed 8-16-23; 8:45 am]

BILLING CODE 6560-50-P